DEPARTMENT OF TRANSPORTATION

National Highway Traffic Safety Administration

49 CFR Part 541

[Docket No. NHTSA-2005-20462]

RIN 2127-AJ52

Federal Motor Vehicle Theft Prevention Standard; Final Listing of Model Year 2006 High-Theft Vehicle Lines

AGENCY: National Highway Traffic Safety Administration (NHTSA), Department of Transportation.

ACTION: Final rule.

SUMMARY: This final rule announces NHTSA's determination for model year (MY) 2006 high-theft vehicle lines that are subject to the parts-marking requirements of the Federal motor vehicle theft prevention standard, and high-theft MY 2006 lines that are exempted from the parts-marking requirements because the vehicles are equipped with antitheft devices determined to meet certain statutory criteria pursuant to the statute relating to motor vehicle theft prevention.

DATES: Effective Date: The amendment made by this final rule is effective April 20, 2005.

FOR FURTHER INFORMATION CONTACT: Ms. Rosalind Proctor, Consumer Standards Division, Office of International Policy, Fuel Economy and Consumer Programs, NHTSA, 400 Seventh Street, SW., Washington, DC 20590. Ms. Proctor's telephone number is (202) 366-0846. Her fax number is (202) 493-2290.

SUPPLEMENTARY INFORMATION: The Anti Car Theft Act of 1992, Pub. L. 102-519, amended the law relating to the partsmarking of major component parts on designated high-theft vehicle lines and other motor vehicles. The Anti Car Theft Act amended the definition of “passenger motor vehicle” in 49 U.S.C. 33101(10) to include a “multipurpose passenger vehicle or light duty truck when that vehicle or truck is rated at not more than 6,000 pounds gross vehicle weight.” Since “passenger motor vehicle” was previously defined to include passenger cars only, the effect of the Anti Car Theft Act is that certain multipurpose passenger vehicle (MPV) and light-duty truck (LDT) lines may be determined to be high-theft vehicles subject to the Federal motor vehicle theft prevention standard (49 CFR Part 541).

The purpose of the theft prevention standard is to reduce the incidence of motor vehicle theft by facilitating the tracing and recovery of parts from stolen vehicles. The standard seeks to facilitate such tracing by requiring that vehicle identification numbers (VINs), VIN derivative numbers, or other symbols be placed on major component vehicle parts. The theft prevention standard requires motor vehicle manufacturers to inscribe or affix VINs onto covered original equipment major component parts, and to inscribe or affix a symbol identifying the manufacturer and a common symbol identifying the replacement component parts for those original equipment parts, on all vehicle lines selected as high-theft.

The Anti Car Theft Act also amended 49 U.S.C. 33103 to require NHTSA to promulgate a parts-marking standard applicable to major parts installed by manufacturers of “passenger motor vehicles (other than light duty trucks) in not more than one-half of the lines not designated under 49 U.S.C. 33104 as high-theft lines.” NHTSA lists each of the selected lines not designated under 49 U.S.C. 33104 as high-theft lines in Appendix B to Part 541. Since section 33103 did not specify marking of replacement parts for below-median lines, the agency does not require marking of replacement parts for these lines. NHTSA published a final rule amending 49 CFR Part 541 to include the definitions of MPV and LDT, and major component parts. (See 59 FR 64164, December 13, 1994.)

49 U.S.C. 33104(a)(3) specifies that NHTSA shall select high-theft vehicle lines, with the agreement of the manufacturer, if possible. Section 33104(d) provides that once a line has been designated as likely high-theft, it remains subject to the theft prevention standard unless that line is exempted under section 33106. Section 33106 provides that a manufacturer may petition to have a high-theft line exempted from the requirements of section 33104, if the line is equipped with an antitheft device as standard equipment. The exemption is granted if NHTSA determines that the antitheft device is likely to be as effective as compliance with the theft prevention standard in reducing and deterring motor vehicle thefts.

The agency annually publishes the names of the lines which were previously listed as high-theft, and the lines which are being listed for the first time and will be subject to the theft prevention standard beginning in a given model year in Appendix A to Part 541. It also identifies in Appendix A-I to Part 541 those lines that are exempted from the theft prevention standard for a given model year under section 33104. Additionally, this listing identifies those lines (except light-duty trucks) in Appendix B to Part 541 that have theft rates below the 1990/1991 median theft rate but are subject to the requirements of this standard under section 33103.

On March 3, 2004, the final listing of high-theft lines for the MY 2005 vehicle lines was published in the Federal Register (68 FR 39471). The final listing identified that there were no new vehicle lines that became subject to the theft prevention standard beginning with the 2005 model year.

For MY 2006, there were also no new vehicle lines identified as likely to be high-theft lines, in accordance with the procedures published in 49 CFR Part 542. However, subsequent to the MY 2005 listing, Toyota Motor North America, Inc., (Toyota) notified the agency that the Lexus LX470 vehicle line was found to have a gross vehicle weight rating that exceeded the weight limitation imposed by the theft prevention standard since the beginning of its introduction into the U.S. market. Accordingly, the Toyota Lexus LX470 has been deleted from Appendix A.

The vehicle lines listed as being subject to the parts-marking standard have previously been designated as high-theft lines in accordance with the procedures set forth in 49 CFR Part 542. Under these procedures, manufacturers evaluate new vehicle lines to conclude whether those new lines are likely to be high theft. The manufacturer submits these evaluations and conclusions to the agency, which makes an independent evaluation; and, on a preliminary basis, determines whether the new line should be subject to the parts-marking requirements. NHTSA informs the manufacturer in writing of its evaluations and determinations, together with the factual information considered by the agency in making them. The manufacturer may request the agency to reconsider the preliminary determinations. Within 60 days of the receipt of these requests, the agency makes its final determination. NHTSA informs the manufacturer by letter of these determinations and its response to the request for reconsideration. If there is no request for reconsideration, the agency's determination becomes final 45 days after sending the letter with the preliminary determination. Each of the new lines on the high-theft list has been the subject of a final determination under either 49 U.S.C. 33103 or 33104.

The list of lines that have been exempted by the agency from the parts-marking requirements of Part 541 includes a high-theft line newly exempted in full beginning with MY 2006. The vehicle line newly exempted in full is the Ford Motor Company's (Ford) Thunderbird. The agency granted Ford's petition for an exemption of its Thunderbird carline from the parts-marking requirements of the Federal Motor Vehicle Theft Prevention Standard beginning with the 2006 model year (70 FR 12780, March 15, 2005). The agency also granted Nissan's petition for an exemption of its [confidential nameplate] line from the parts-marking requirements of the Federal Motor Vehicle Theft Prevention Standard beginning with the [confidential] model year (69 FR 59300, October 4, 2004). However, on November 15, 2004, Nissan formally notified the agency of its decision not to use the exemption for this line at this time. Subsequent to publishing the 2005 final rule, Mazda Motor Corporation (Mazda) petitioned the agency for an exemption of the Mazda MX-5 Miata vehicle line from the parts-marking requirements of the Federal Motor Vehicle Theft Prevention Standard. The agency granted Mazda's petition for an exemption of its MX-5 Miata vehicle line beginning with the 2005 model year (69 FR 58592, September 30, 2004).

Subsequent to publishing the 2005 final rule, General Motor's notified the agency of its plans to change the nameplate of the Buick Regal to Buick LaCrosse and the Chevrolet Venture to Chevrolet Uplander beginning with the 2005 model year. General Motors also notified the agency of its plans to change the nameplate for the Buick LeSabre to the Buick Lucerne vehicle line beginning with MY 2006. Accordingly, Appendix A-I has been amended. The vehicle lines listed as being exempt from the standard have previously been exempted in accordance with the procedures of 49 CFR Part 543 and 49 U.S.C. 33106.

Similarly, the low-theft lines listed as being subject to the parts-marking standard have previously been designated in accordance with the procedures set forth in 49 U.S.C. 33103.

Therefore, NHTSA finds for good cause that notice and opportunity for comment on these listings are unnecessary. Further, public comment on the listing of selections and exemptions is not contemplated by 49 U.S.C. Chapter 331.

For the same reasons, since this revised listing only informs the public of previous agency actions and does not impose additional obligations on any party, NHTSA finds for good cause that the amendment made by this notice should be effective as soon as it is published in the Federal Register.

Regulatory Impacts

1. Costs and Other Impacts

NHTSA has analyzed this rule and determined that it is not “significant” within the meaning of the Department of Transportation's regulatory policies and procedures. The agency has also considered this notice under Executive Order 12866. As already noted, there has been no selections made in this final rule in accordance with the provisions of 49 U.S.C. 33104, and therefore, no manufacturers been informed that its lines are subject to the requirements of 49 CFR Part 541 for MY 2006. Further, this listing does not actually exempt lines from the requirements of 49 CFR Part 541; it only informs the general public of all such previously granted exemptions. Since the only purpose of this final listing is to inform the public of actions for MY 2006 that the agency has already taken, a full regulatory evaluation has not been prepared.

2. Regulatory Flexibility Act

The agency has also considered the effects of this listing under the Regulatory Flexibility Act. I hereby certify that this rule will not have a significant economic impact on a substantial number of small entities. As noted above, the effect of this final rule is simply to inform the public of those lines that are already subject to the requirements of 49 CFR Part 541 for MY 2006. The agency believes that the listing of this information will not have any economic impact on small entities.

3. Environmental Impacts

In accordance with the National Environmental Policy Act of 1969, the agency has considered the environmental impacts of this rule, and determined that it will not have any significant impact on the quality of the human environment.

4. Federalism

This action has been analyzed in accordance with the principles and criteria contained in Executive Order 12612, and it has been determined that this final rule does not have sufficient Federalism implications to warrant the preparation of a Federalism Assessment.

5. Civil Justice Reform

This final rule does not have a retroactive effect. In accordance with section 33118 when the Theft Prevention Standard is in effect, a State or political subdivision of a State may not have a different motor vehicle theft prevention standard for a motor vehicle or major replacement part. 49 U.S.C. 33117 provides that judicial review of this rule may be obtained pursuant to 49 U.S.C. 32909. Section 32909 does not require submission of a petition for reconsideration or other administrative proceedings before parties may file suit in court.

List of Subjects in 49 CFR Part 541

Administrative practice and procedure, Labeling, Motor vehicles, Reporting and recordkeeping requirements.

In consideration of the foregoing, 49 CFR Part 541 is amended as follows:

PART 541—[AMENDED]

1. The authority citation for Part 541 continues to read as follows:

Authority: 49 U.S.C. 33102-33104 and 33106; delegation of authority at 49 CFR 1.50.

2. In Part 541, Appendices A and A-I are revised. Appendices A and A-I are revised to read as follows:

Appendix A to Part 541—Lines Subject to the Requirements of This Standard

Manufacturer | Subject lines
ALFA ROMEO | Milano 161 and 164.
BMW | Z3, Z8.
CONSULIER | Consulier GTP.
DAEWOO | Korando, Musso (MPV), Nubira (2000-2002).
DAIMLERCHRYSLER | Chrysler Cirrus, Chrysler Fifth Avenue/Newport, Chrysler Laser, Chrysler LeBaron/Town & Country, Chrysler LeBaron GTS, Chrysler's TC, Chrysler New Yorker Fifth Avenue, Chrysler Sebring, Dodge 600, Dodge Aries, Dodge Avenger, Dodge Colt, Dodge Daytona, Dodge Diplomat, Dodge Lancer, Dodge Neon, Dodge Shadow, Dodge Stratus, Dodge Stealth, Eagle Summit, Eagle Talon, Jeep Cherokee (MPV), Jeep Liberty (MPV), Jeep Wrangler (MPV), Plymouth Caravelle, Plymouth Colt, Plymouth Laser, Plymouth Gran Fury, Plymouth Neon, Plymouth Reliant, Plymouth Sundance, and Plymouth Breeze.
FERRARI | Mondial 8, 328.
FORD | Ford Aspire, Ford Escort, Ford Probe, Lincoln Continental, Lincoln Mark, Mercury Capri, Mercury Cougar, Merkur Scorpio, and Merkur XR4Ti.
GENERAL MOTORS | Buick Electra, Buick Reatta, Buick Skylark, Chevrolet Nova, Chevrolet Blazer (MPV), Chevrolet Prizm, Chevrolet S-10 Pickup, Geo Storm, Chevrolet Tracker (MPV), GMC Jimmy (MPV), GMC Sonoma Pickup, Oldsmobile Achieva (1997-1998), Oldsmobile Bravada, Oldsmobile Cutlass, Oldsmobile Cutlass Supreme (1988-1997), Oldsmobile Intrigue, Pontiac Fiero, Saturn Sports Coupe (1991-2002).
HONDA | Accord, CRV (MPV), Odyssey (MPV), Passport, Pilot (MPV), Prelude, S2000, Acura Integra, Acura MDX (MPV), and Acura RSX.
HYUNDAI | Accent, Sonata, Tiburon.
ISUZU | Amigo, Impulse, Rodeo, Rodeo Sport, Stylus, Trooper/Trooper II, VehiCross (MPV).
JAGUAR | XJ.
KIA MOTORS | Optima, Rio, Sephia (1998-2002), Spectra.
LOTUS | Elan.
MASERATI | Biturbo, Quattroporte, 228.
MAZDA | 626 (1987-2002), MX-3, MX-6.
MERCEDES-BENZ | 190 D, 190 E, 260E (1987-1989), 300 SE (1988-1991), 300 TD (1987), 300 SDL (1987), 300 SEL, 350 SDL (1990-1991), 420 SEL (1987-1991), 560 SEL (1987-1991), 560 SEC (1987-1991), 560 SL.
MITSUBISHI | Cordia, Eclipse, Lancer, Mirage, Montero (MPV), Montero Sport (MPV), Tredia, 3000GT.
NISSAN | 240SX, Sentra/200SX, Xterra.
PEUGEOT | 405.
PORSCHE | 924S.
SUBARU | XT, SVX, Baja, Forester, Legacy Outback (1995-2004).
SUZUKI | Aerio, X90 (MPV), Sidekick (1997-1998), and Vitara/Grand Vitara (MPV).
TOYOTA | Toyota 4-Runner (MPV), Toyota Avalon, Toyota Camry, Toyota Celica, Toyota Corolla/Corolla Sport, Toyota Echo, Toyota Highlander (MPV), Toyota Matrix (MPV), Toyota MR2, Toyota MR2 Spyder, Toyota Prius, Toyota RAV4 (MPV), Toyota Sienna (MPV), Toyota Tercel, Lexus IS300, Lexus RX300 (MPV), Scion xA, Scion xB.
VOLKSWAGEN | Audi Quattro, Volkswagen Scirocco.

Appendix A-I—High-Theft Lines With Antitheft Devices Which are Exempted From the Parts-Marking Requirements of This Standard Pursuant to 49 CFR Part 543

Manufacturer | Subject lines
AUSTIN ROVER | Sterling.
BMW | MINI, X5, Z4, 3 Car Line, 5 Car Line, 6 Car Line, 7 Car Line, 8 Car Line.
DAIMLERCHRYSLER | Jeep Grand Cherokee, Chrysler Conquest, Chrysler Imperial, Chrysler Town and Country MPV.
FORD | Lincoln Town Car, Mustang, Mercury Sable (2001-2004), Mercury Grand Marquis, Taurus (2000-2004), Thunderbird.¹
GENERAL MOTORS | Buick Lucerne, Buick LeSabre ², Buick LaCrosse/Century, Buick Park Avenue, Buick Regal/Century ³, Buick Riviera, Cadillac Allante, Cadillac Deville, Cadillac Seville, Chevrolet Corvette, Chevrolet Cavalier, Chevrolet Classic, Chevrolet Impala/Monte Carlo, Chevrolet Lumina, Monte Carlo (1996-1999), Chevrolet Malibu (2001-2003), Chevrolet Uplander, Chevrolet Venture (2002-2004) ⁴, Oldsmobile Alero, Oldsmobile Aurora, Oldsmobile Toronado, Pontiac Bonneville, Pontiac Grand Am, Pontiac Grand Prix, Pontiac Sunfire.
HONDA | Acura CL, Acura Legend (1991-1996), Acura NSX, Acura RL, Acura SLX, Acura TL, Acura Vigor (1992-1995).
ISUZU | Axiom, Impulse (1987-1991).
JAGUAR | XK.
MAZDA | 6, 929, MX-5 Miata ⁵ RX-7, Millenia.
MERCEDES-BENZ | 124 Car Line (the models within this line are): 260E, 300D, 300E, 300CE, 300TE, 400E, 500E, 129 Car Line (1993-2002)-the models within this line are: 300SL, 500SL, 600SL, SL320, SL500, SL600, 202 Car Line (the models within this line are): C220, C230, C280, C36, and C43.
MITSUBISHI | Galant, Starion, and Diamante.
NISSAN | Nissan Altima, Nissan Maxima, Nissan Pathfinder, Nissan 300ZX, Infiniti G35, Infiniti I30, Infiniti J30, Infiniti M30, Infiniti M45, Infiniti QX4, and Infiniti Q45.
PORSCHE | 911, 928, 968, 986 Boxster.
SAAB | 9-3, 900 (1994-1998), 9000 (1989-1998).
TOYOTA | Toyota Supra, Toyota Cressida, Lexus ES, Lexus GS, Lexus LS, Lexus SC.
VOLKSWAGEN | Audi 5000S, Audi 100/A6, Audi 200/S4/S6, Audi Allroad Quattro (MPV), Audi Cabriolet, Volkswagen Cabrio, Volkswagen Corrado, Volkswagen Golf/GTI, Volkswagen Jetta/Jetta III, Volkswagen Passat.
¹ Granted an exemption from the partsmarking requirements beginning with MY 2006.
² The Buick LeSabre was renamed Buick Lucerne beginning with MY 2006.
³ The Buick Regal/Century was renamed Buick LaCrosse/Century beginning with MY 2005.
⁴ The Chevrolet Venture was renamed the Chevrolet Uplander in MY 2005.
⁵ Granted an exemption from the partsmarking requirements beginning with MY 2005.

Issued on: April 14, 2005.
Stephen R. Kratzke,
Associate Administrator for Rulemaking.

[FR Doc. 05-7813 Filed 4-19-05; 8:45 am]

BILLING CODE 4910-59-P